DEPARTMENT OF ENERGY

Federal Energy Regulatory Commission

[Project No. 14421-004]

Freedom Falls, LLC; TLK Real Estate Holdings, LLC; Notice of Transfer of Exemption

1. On January 3, 2023, Freedom Falls, LLC, exemptee for the 50-kilowatt Freedom Falls Hydroelectric Project No. 14421, filed a letter notifying the Commission that the project was transferred from Freedom Falls, LLC to TLK Real Estate Holdings, LLC. The exemption from licensing was originally issued on March 25, 2013.¹ The project is located on Sandy Stream, Waldo County, Maine. The transfer of an exemption does not require Commission approval.

¹ Freedom Falls, LLC, 142 FERC ¶ 62,243 (2013).

2. TLK Real Estate Holdings, LLC is now the exemptee of the Freedom Falls Hydroelectric Project No. 14421. All correspondence must be forwarded to Mr. Michael Dutton, Member, TLK Real Estate Holdings, LLC, 22 Mill Street, Freedom, ME 04941, Phone: 646-696-0302, Email: michael@findthelostkitchen.com.

Dated: January 26, 2023.
Debbie-Anne A. Reese,
Deputy Secretary.

[FR Doc. 2023-02088 Filed 1-31-23; 8:45 am]

BILLING CODE 6717-01-P